DEPARTMENT OF THE INTERIOR

Fish and Wildlife Service

Notice of Intent To Conduct Public Scoping and Prepare an Environmental Impact Statement Regarding the Development of a Habitat Conservation Plan for the Pacific Coast Population of the Western Snowy Plover in Oregon

AGENCY: Fish and Wildlife Service, Interior.

ACTION: Notice of intent.

SUMMARY: Pursuant to the National Environmental Policy Act (NEPA), we, the U.S. Fish and Wildlife Service are advising the public that we intend to gather information necessary to prepare an Environmental Impact Statement (EIS) and conduct public scoping regarding the potential issuance of an incidental take permit under the Endangered Species Act of 1973 (Act), as amended, for the threatened Pacific coast population of the western snowy plover (Charadrius alexandrinus nivosus) within Oregon. We anticipate that the Oregon Department of Parks and Recreation (OPRD) will develop a habitat conservation plan (HCP) and apply for an incidental take permit for this species covering beach management activities. Incidental take permits are authorized under section 10(a) of the Act. We are providing this notice to advise other agencies and the public of our intent to prepare an EIS and to obtain suggestions and information on the scope of issues to include in the EIS. This EIS will provide a comprehensive analysis of the direct, indirect, and cumulative effects of beach management alternatives. It will also analyze proposed mitigation and minimization measures for anticipated incidental take from the implementation of an HCP for the western snowy plover resulting from the HCP..

DATES: Written comments for this initial scoping phase will be accepted until April 28, 2003.

ADDRESSES: Send written comments to State Supervisor, Oregon Fish and Wildlife Office, U.S. Fish and Wildlife Service, 2600 SE 98th Avenue, Suite 100, Portland, OR 97266. Comments may also be submitted by electronic mail (e-mail) to orp&r_hcp@r1.fws.gov.

FOR FURTHER INFORMATION CONTACT: Richard Szlemp, Fish and Wildlife Service; telephone 503-231-6179; or Michelle Michaud, Project Manager, OPRD, telephone 503-378-4168, ext. 288.

SUPPLEMENTARY INFORMATION:

Background

Section 9 of the Act, and its implementing Federal regulations prohibit the “taking” of a species listed as endangered or threatened. The term “take” means to harass, harm, pursue, hunt, shoot, wound, kill, capture or collect listed wildlife, or attempt to engage in such conduct. Harm includes habitat degradation or modification that kills or injures wildlife by significantly impairing essential behavioral patterns, including breeding, feeding, or sheltering. Under section 10(a) of the Act, we may issue permits for take of listed species that is incidental to, and not the purpose of, otherwise lawful activities. Regulations governing permits for threatened and endangered species are found in the Code of Federal Regulations at 50 CFR 17.32 and 50 CFR 17.22.

The OPRD has management responsibility on all Oregon coastal beaches (approximately 260 miles) for such activities as recreation, ocean shore alterations (riprap, seawalls, etc.), natural product removal (sand), and non-traditional activities (e.g., weddings, commercial filming, fireworks displays). Such activities may result in take of the threatened Pacific coast population of the western snowy plover.

In accordance with section 10(a) of the Act, OPRD will prepare an HCP which will address conservation of western snowy plovers and their habitat, while providing for recreational use, non-traditional uses, and for ocean shore alteration activities on the entire length of Oregon's beaches. The proposed HCP will consider all uses on ocean beaches from low mean tide to the actual or statutory vegetation line, whichever is furthest inland, as well as all OPRD owned and managed coastal park units.

Availability of Comments

Comments will be available for public inspection at OPRD, 1115 Commercial Street, NE, Salem, Oregon. All submissions from organizations or businesses, and from individuals identifying themselves as representatives or officials of organizations or businesses, will be available for public inspection in their entirety.

Individual respondents may request confidentiality. If you wish your name and/or address withheld from public review or disclosure under the Freedom of Information Act, you must state this prominently at the beginning of your written comment. Such requests will be honored to the extent allowed by law. We will not, however, consider anonymous comments.

Dated: March 14, 2003.
Rowan W. Gould,
Deputy Regional Director, Fish and Wildlife Service, Region 1, Portland, Oregon.

[FR Doc. 03-6677 Filed 3-19-03; 8:45 am]

BILLING CODE 4310-55-P